DEPARTMENT OF TRANSPORTATION

Federal Aviation Administration

14 CFR Part 71

[Docket No. FAA-2019-0677; Airspace Docket No. 19-ACE-5]

RIN 2120-AA66

Proposed Revocation of VHF Omnidirectional Range (VOR) Federal Airway V-61 and Amendment of Area Navigation Route T-286 Due to the Decommissioning of the Robinson, KS, VOR

AGENCY: Federal Aviation Administration (FAA), DOT.

ACTION: Notice of proposed rulemaking (NPRM).

SUMMARY: This action proposes to remove VHF Omnidirectional Range (VOR) Federal airway V-61 in its entirety and extend area navigation (RNAV) route T-286 in its place. The FAA is proposing this action due to the planned decommissioning of the Robinson, KS (RBA), VOR portion of the Robinson VOR/Distance Measuring Equipment (VOR/DME) navigation aid (NAVAID). The Robinson VOR is being decommissioned in support of the FAA's VOR Minimum Operational Network (MON) program.

DATES: Comments must be received on or before October 21, 2019.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2019-0677; Airspace Docket No. 19-ACE-5 at the beginning of your comments. You may also submit comments through the internet at http://www.regulations.gov. FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, email: fedreg.legal@nara.gov or go to https://www.archives.gov/federal-register/cfr/ibr-locations.html.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System as necessary to preserve the safe and efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2019-0677; Airspace Docket No. 19-ACE-5) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2019-0677; Airspace Docket No. 19-ACE-5.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Blvd., Fort Worth, TX 76177.

Availability and Summary of Documents for Incorporation by Reference

This document proposes to amend FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

Background

The FAA is planning to decommission the VOR portion of the Robinson, KS (RBA), VOR/DME in March 2020. The Robinson VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

With the planned decommissioning of the Robinson VOR, two of the three V-61 route segments are impacted and the remaining ground-based NAVAID coverage in the area is insufficient to enable the continuity of V-61 as charted. As such, the FAA proposes to remove V-61 in its entirety between the Grand Island, NE, VOR/Distance Measuring Equipment (VOR/DME) NAVAID and the intersection of the Robinson, KS, VOR/DME 141° and St. Joseph, MO, VOR Tactical Air Navigation (VORTAC) 211° radials (the BOWLR fix).

To overcome the gap that would result in the en route structure by the removal of V-61, the FAA proposes to extend T-286 between the Grand Island VOR/DME and BOWLR fix to overlay the V-61 routing being removed. Additionally, adjacent VOR Federal airways V-4, V-50, V-71, V-77, V-138, V-307, V-380, and V-551 between the St. Joseph, MO, VORTAC and Topeka, KS, VORTAC areas and the Grand Island, NE, VOR/DME remain available to circumnavigate the affected area. Further, the fixes located along V-61 would be retained in place to assist pilots and air traffic controllers already familiar with them for navigation purposes. Instrument flight rules (IFR) traffic could use the extended T-286, use the adjacent VOR Federal airways, file point-to-point through the affected area using the fixes that will remain in place, or receive air traffic control (ATC) radar vectors through the area. Lastly, the Robinson DME facility is planned to be retained and charted in its current location as a DME facility with the “RBA” identifier. Visual flight rules (VFR) pilots who elect to navigate via the airways through the affected area could also take advantage of the air traffic services previously listed.

A number of minor editorial corrections to the T-286 legal description are also proposed to correct erroneous information and comply with route description policy guidance. The editorial corrections do not change the route's structure, operational use, or charted depiction.

The Proposal

The FAA is proposing an amendment to Title 14 Code of Federal Regulations (14 CFR) part 71 to remove VOR Federal airway V-61 and extend RNAV route T-286 to overlay the V-61 routing being removed. The planned decommissioning of the VOR portion of the Robinson, KS, VOR/DME has made this action necessary. The proposed air traffic service (ATS) route actions are described below.

V-61: V-61 currently extends between the Grand Island, NE, VOR/DME and the intersection of the Robinson, KS, VOR/DME 141° and St. Joseph, MO, VOR Tactical Air Navigation (VORTAC) 211° radials (BOWLR fix). The FAA proposes to remove the airway in its entirety.

T-286: T-286 currently extends between the Rapid City, SD, VORTAC and the Grand Island, NE, VOR/DME. The FAA proposes to extend the route southeast between the Grand Island VOR/DME and the BOWLR fix. Additionally, the Rapid City VORTAC “RAP” identifier is added to the first line of the route description; the type of fix for EFFEX and the type of facility for Grand Island, NE, are corrected; and the geographic coordinates of each route point are updated to be expressed in degrees, minutes, seconds, and hundredths of a second.

VOR Federal airways are published in paragraph 6010(a) and low altitude RNAV T-routes are published in paragraph 6011 of FAA Order 7400.11C dated August 13, 2018, and effective September 15, 2018, which is incorporated by reference in 14 CFR 71.1. The ATS routes listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 6010(a) Domestic VOR Federal Airways.

* * * * *

V-61 [Removed]

* * * * *

Paragraph 6011 United States Area Navigation Routes.

* * * * *

T-286 Rapid City, SD (RAP) to BOWLR, KS [Amended]
Rapid City, SD (RAP) | VORTAC | (Lat. 43°58′33.74″ N, long. 103°00′44.38″ W)
Gordon, NE (GRN) | NDB | (Lat. 42°48′03.90″ N, long. 102°10′45.82″ W)
EFFEX, NE | FIX | (Lat. 42°19′59.17″ N, long. 101°20′11.41″ W)
Thedford, NE (TDD) | VOR/DME | (Lat. 41°58′53.99″ N, long. 100°43′08.52″ W)
BOKKI, NE | FIX | (Lat. 41°39′54.99″ N, long. 99°52′17.00″ W)
Grand Island, NE (GRI) | VOR/DME | (Lat. 40°59′02.50″ N, long. 98°18′53.20″ W)
Pawnee City, NE (PWE) | VORTAC | (Lat. 40°12′01.27″ N, long. 96°12′22.61″ W)
Robinson, KS (RBA) | DME | (Lat. 39°51′03.00″ N, long. 95°25′23.00″ W)
BOWLR, KS | FIX | (Lat. 39°37′21.29″ N, long. 95°11′00.26″ W)

* * * * *

Issued in Washington, DC, on August 28, 2019.
Rodger A. Dean Jr.,
Manager, Airspace Policy Group.

[FR Doc. 2019-19112 Filed 9-5-19; 8:45 am]

BILLING CODE 4910-13-P